DEPARTMENT OF AGRICULTURE

Forest Service

Interim Direction on Administration of Authorizations for Fiber Optic Cable Uses on National Forest System Lands

AGENCY: Forest Service, USDA.

ACTION: Notice of availability of agency directive.

SUMMARY: The Forest Service is issuing an interim directive to provide internal administrative direction to guide its employees in the processing of proposals and applications for fiber optic cable uses and in the administration of authorizations for these uses on National Forest System lands. The interim directive is issued to the Forest Service Special Uses Handbook FSH 2709.11, Chapter 40, Special Uses Administration, as ID number 2709.11-2001-1.

DATES: The interim directive is effective September 5, 2001.

ADDRESSES: The interim directive is available electronically from the Forest Service via the World Wide Web/Internet at http://www.fs.fed.us/im/directives. Single paper copies of the interim directive also are available by contacting the Forest Service, USDA, Lands Staff (Mail Stop 1124), P.O. Box 96090, Washington, DC 20090-6090 (telephone 202-205-1264).

FOR FURTHER INFORMATION CONTACT: Mark Scheibel, Lands Staff (202-205-1264).

Dated: August 7, 2001.
Hilda Diaz-Soltero,
Associate Chief for Natural Resources.

[FR Doc. 01-22217 Filed 9-4-01; 8:45 am]

BILLING CODE 3410-11-P